DEPARTMENT OF TRANSPORTATION

Federal Aviation Administration

Airport Improvement Program

AGENCY: Department of Transportation, Federal Aviation Administration.

ACTION: Invitation to comment on draft FAA Order 5100-38, Airport Improvement Program Handbook.

SUMMARY: This notice announces the request for comments on the draft of FAA Order 5100-38D, Airport Improvement Program Handbook. When finalized, this Order will replace Order 5100-38C, Airport Improvement Program Handbook, issued on June 28, 2005. This update clarifies statutory requirements, including changes to the AIP statute from the recent FAA reauthorization.

DATES: Comments must be received on or before March 18, 2013.

ADDRESSES: You can get an electronic copy of draft FAA Order 5100-38 and the comment form on the FAA Airports Web site at http://www.faa.gov/airports/ after January 31, 2013.

You can submit comments using the AIP Draft Handbook Comment Form, using any of the following methods:

Electronic Submittal to the FAA: Go to http://www.faa.gov/airports/ and follow the instructions for sending your comments electronically.

Mail: FAA Office of Airports, Airport Planning and Programming, Routing Symbol APP-501, 800 Independence Avenue SW., Room 619, Washington, DC 20591.

Fax: 1-202-267-5302.

Hand Delivery: To FAA Office of Airports, Airport Planning and Programming, Routing Symbol APP-501, 800 Independence Avenue SW., Room 619, Washington, DC 20591; between 9 a.m. and 4 p.m., Monday through Friday, except Federal holidays.

For more information on the notice and comment process, see the SUPPLEMENTARY INFORMATION section of this document. Privacy: We will post all comments we receive, without change, to http://www.faa.gov/airports/, including any personal information you provide.

Comments Received: To read comments received, go to http://www.faa.gov/airports/ at any time.

FOR FURTHER INFORMATION CONTACT: Frank J. San Martin, Manager, Airport Financial Assistance Division, APP-500, Federal Aviation Administration, 800 Independence Avenue SW., Washington, DC 20591, telephone (202) 267-3181; facsimile: (202) 267-5302; email: frank.sanmartin@faa.gov.

SUPPLEMENTARY INFORMATION:

Availability of Documents

You can get an electronic copy of this notice, FAA Order 5100-38C, and the draft Order by visiting the FAA's Airports Web page at http://www.faa.gov/airports/ after January 31, 2013.

Background

The Airport Improvement Program is an airport grant program, established by the Airport and Airway Improvement Act of 1982 as amended, 49 U.S.C. 47101 et seq. (AAIA). Order 5100-38C, Airport Improvement Program Handbook, issued June 28, 2005, contains instructions to FAA employees on implementing the AIP. This Order is widely used by airports, consultants and others. This draft Order will replace Order 5100-38C and supersedes most Program Guidance Letters (PGLs) issued through Fiscal Year 2012.

Since 2005, there have been substantial changes to the laws and policies relating to the AIP, including the recent FAA reauthorization bill, the FAA Modernization and Reform Act of 2012.

To incorporate these changes and provide the most useful and current program guidance to agency employees, the Office of Airport Planning and Programming, Financial Assistance Division has updated and significantly revised the Handbook to maximize its clarity. This update is a fundamental rewrite of FAA Order 5100-38C, the current version of the Airport Improvement Program Handbook. The update clarifies the different responsibilities of the FAA Office of Airports staff and those of the AIP grant sponsor. The basic Handbook includes the requirements for all grant projects and also includes appendices that can be used as a ready-reference for project-specific requirements.

Invitation for Public Comment

While the FAA generally does not request public comment on internal orders, the agency is offering this opportunity for public comment in recognition of the interest of all segments of the airport community in the AIP. The agency will consider all comments received by the closing date of the comment period in finalizing this Order. Comments received after that date may be considered if consideration will not delay agency action on the Order.

Comments must be submitted on the AIP Draft Handbook Comment Form, which is available for downloading at: http://www.faa.gov/airports/. Comments that are not submitted on the form may be considered only if consideration will not delay agency action on the Order.

Issued in Washington, DC, on January 23, 2013.
Frank J. San Martin,
Manager, Airports Financial Assistance Division, Office of Airport Planning and Programming.

[FR Doc. 2013-02044 Filed 1-31-13; 8:45 am]

BILLING CODE 4910-13-P